DEPARTMENT OF TRANSPORTATION

Federal Aviation Administration

14 CFR Part 39

[Docket No. FAA-2007-27496; Directorate Identifier 2005-SW-37-AD; Amendment 39-15238; AD 2007-22-02]

RIN 2120-AA64

Airworthiness Directives; Bell Helicopter Textron, Inc. Model 205A, 205A-1, 205B, 212, 412, 412CF, and 412EP Helicopters

AGENCY: Federal Aviation Administration, DOT.

ACTION: Final Rule.

SUMMARY: This amendment supersedes an existing airworthiness directive (AD) for the specified Bell Helicopter Textron, Inc. (Bell) Helicopters. That AD currently requires inspecting each affected tail rotor blade (blade) forward tip weight retention block (tip block) and the aft tip closure (tip closure) for adhesive bond voids, and removing any blade with an excessive void from service. That AD also requires modifying certain blades by installing shear pins and tip closure rivets. This amendment contains the same requirements but expands the applicability to include other part and serial-numbered blades. This AD also clarifies the requirement to re-identify the modified blade by adding “FM” after the part number and also requires dynamically balancing the tail rotor. The existing AD was prompted by five occurrences of missing tip blocks or tip closures resulting in minor to substantial damage. This amendment was prompted by the determination that the AD should apply to other affected part and serial-numbered blades. The actions specified by this AD are intended to prevent loss of a tip block or tip closure, loss of a blade and subsequent loss of control of the helicopter.

DATES: Effective November 30, 2007.

The incorporation by reference of certain publications listed in the regulations is approved by the Director of the Federal Register as of November 30, 2007.

ADDRESSES: You may get the service information identified in this AD from Bell Helicopter Textron, Inc., P.O. Box 482, Fort Worth, Texas 76101, telephone (817) 280-3391, fax (817) 280-6466.

Examining the Docket: You may examine the AD docket on the Internet at http://www.regulations.gov; or in person at the Docket Management Facility between 9 a.m. and 5 p.m. Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Michael Kohner, Aviation Safety Engineer, FAA, Rotorcraft Directorate, Rotorcraft Certification Office, Fort Worth, Texas 76193-0170, telephone (817) 222-5447, fax (817) 222-5783.

SUPPLEMENTARY INFORMATION: A proposal to amend 14 CFR part 39 by superseding AD 2002-09-04, Amendment 30-12737 (67 FR 22349, May 3, 2002), for the specified Bell model helicopters was published in the Federal Register on March 13, 2007 (72 FR 11295). The action proposed: retaining requirements to inspect the tip block and the tip closure for adhesive bonding voids and to remove any blade with an excessive void from service; retaining requirements to modify certain blades by installing shear pins and tip closure rivets in the tip area of the affected blades; expanding the applicability to include more blades and clarifying other requirements.

Since issuing AD 2002-09-04, Bell issued further revisions to Alert Service Bullet (ASB) Nos. 205-00-80, 205B-00-34, 212-00-111, 412-00-106, and 412CR-00-13, Revision A, dated December 20, 2000. The revisions add blades with a serial number (S/N) prefix of “ A” or “AFS” and number of 11530 to 13594, 13603 to 13618, and also change the “effectivity” of the blades. The latest revisions, Revisions D, all dated March 18, 2005, provide an alternative fastener for the blade tip closure rivets installation. The revised ASBs also state that blades with S/N A or AFS-11926, 13351, 13367, 13393, 13400, 13402, 13515, 13540, 13568, 13595 to 13602, 13619, and subsequent will be modified before delivery.

The previously described unsafe condition is likely to exist or develop on other helicopters of these same type designs. Therefore, this AD supersedes AD 2002-09-04 to expand the applicability for the blade part and serial number. This AD also clarifies the requirement to re-identify the modified blade by adding “FM” after the part number and also requires dynamically balancing the tail rotor. Because blades, S/N with a prefix of “A” or “AFS” and a number 11926, 13351, 13367, 13393, 13400, 13402, 13515, 13540, 13568, 13595 to 13602, 13619, and subsequent, will be modified before delivery, we are excluding them from the applicability of this AD.

Interested persons have been afforded an opportunity to participate in the making of this amendment. No comments were received on the proposal or the FAA's determination of the cost to the public. The FAA has determined that air safety and the public interest require the adoption of the rule as proposed.

The FAA estimates that this AD will affect 281 helicopters of U.S. registry. The required actions will take about 3 work hours per helicopters to inspect certain blades, install the shear pins and tip closure rivets, reidentify the modified blades, and dynamically balance the blade assembly at an average labor rate of $80 per work hour. Required supplies will cost about $35 per helicopter. Based on these figures, we estimate the total cost impact of the AD on U.S. operators to be $77,275.

Regulatory Findings

We have determined that this AD will not have federalism implications under Executive Order 13132. This AD will not have a substantial direct effect on the States, on the relationship between the national Government and the States, or on the distribution of power and responsibilities among the various levels of government.

For the reason discussed above, I certify that the regulation:

1. Is not a “significant regulatory action” under Executive Order 12833;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12737 (67 FR 22349, May 3, 2002), and by adding a new airworthiness directive (AD), Amendment 39-15238, to read as follows:

2007-22-02 Bell Helicopter Textron, Inc.: Amendment 39-15238. Docket No. FAA-2007-27496; Directorate Identifier 2005-SW-37-AD. Supersedes AD 2002-09-04, Amendment 39-12737, Docket No. 2001-SW-37-AD.

Applicability

Model 205A, 205A-1, 205B, 212, 412, 412CF, and 412EP helicopters with a tail rotor blade (blade), part number 212-010-750-009 through -129, all serial numbers except serial numbers with a prefix of “A” or “AFS” and the number 11926, 13351, 13367, 13393, 13400, 13402, 13515, 13540, 13568, 13595 through 13602, 13619, and subsequent assigned numbers, installed, certificated in any category.

Compliance

Within 100 hours time-in-service, unless accomplished previously.

To prevent loss of the forward tip weight retention block (tip block) or aft tip closure (tip closure), loss of the blade, and subsequent loss of control of the helicopter, accomplish the following:

(a) Inspect the tip block and tip closure for voids. Remove from service any blade with a void in excess of that allowed by the Component Repair and Overhaul Manual limitations.

(b) Inspect the tip block attachment countersink screws in four locations to determine if the head of each countersunk screw is flush with the surface of the abrasion strip. The locations of these four screws are depicted on Figure 1 of Bell Helicopter Textron, Inc. Alert Service Bulletins 205-00-80, 205B-00-34, 212-00-111, 412-00-106, and 412CF-00-13, all Revision D, all dated March 18, 2005 (ASB). If any of these screws are set below the surface of the abrasion strip or are covered with filler material, install shear pins by following the Accomplishment Instructions, Part A, Shear Pin Installation paragraphs, of the ASB appropriate for your model helicopter.

(c) Install the aft tip closure rivets, re-identify the modified blade by adding an “FM,” and dynamically balance the tail rotor hum assembly by following the Accomplishment Instructions, Part B, Aft Tip Closure Rivet Installation paragraphs, of the ASB appropriate for your model helicopter.

(d) To request a different method of compliance or a different compliance time for this AD, follow the procedures in 14 CFR 39.19. Contact the Manager, Rotorcraft Certification Office, Rotorcraft Directorate, FAA, ATTN: Michael Kohner, Aviation Safety Engineer, Fort Worth, Texas 76193-0170, telephone (817) 222-5447, fax (817) 222-5783, for information about previously approved alternative methods of compliance.

(e) Inspecting certain screws to determine if they are flush with the surface of the abrasion strip, modifying blades by installing shear pins or aft tip closure rivets as necessary, and re-identifying the modified blade shall be done by following Bell Helicopter Textron, Inc. Alert Service Bulletins 205-00-80, 205B-00-34, 212-00-111, 412-00-106, and 412CF-00-13, all Revision D, all dated March 18, 2005. The Director of the Federal Register approved this incorporation by reference under 5 U.S.C. 552(a) and 1 CFR part 51. Copies may be obtained from Bell Helicopter Textron, Inc., P.O. Box 482, Fort Worth, Texas 76101, telephone (817) 280-3391, fax (817) 280-6466. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(f) This amendment becomes effective November 30, 2007.

Issued in Fort Worth, Texas, on October 10, 2007.
Scott A. Horn,
Acting Manager, Rotorcraft Directorate, Aircraft Certification Service.

[FR Doc. 07-5186 Filed 10-25-07; 8:45 am]

BILLING CODE 4910-13-M